ENVIRONMENTAL PROTECTION AGENCY

[FRL-6536-5]

Notice of Proposed Purchaser Agreement Pursuant to the Comprehensive Environmental Response, Compensation and Liability Act of 1980, as Amended by the Superfund Amendments and Reauthorization Act

AGENCY: Environmental Protection Agency (EPA).

ACTION: Notice; request for public comment.

SUMMARY: In accordance with the Comprehensive Environmental Response, Compensation, and Liability Act of 1980, as amended by the Superfund Amendments and Reauthorization Act of 1986 (“CERCLA”), 42 U.S.C. 9601-9675, notice is hereby given that a proposed purchaser agreement (“Purchaser Agreement”) associated with the Metro Container Corporation Site in Trainer, Pennsylvania was executed by the Environmental Protection Agency and the Department of Justice and is now subject to public comment, after which the United States may modify or withdraw its consent if comments received disclose facts or considerations which indicate that the Purchaser Agreement is inappropriate, improper, or inadequate. The Purchaser Agreement would resolve certain potential EPA claims under section 107 of CERCLA, 42 U.S.C. 9607, against Trainer Industries, L.L.C. (“Purchaser”). The settlement would require the Purchaser to, among other things, pay the sum of $15,000 to the EPA Hazardous Substance Superfund, provide an irrevocable right of access to EPA, and record notice of the agreement in the local land records.

For thirty (30) days following the date of publication of this notice, the Agency will receive written comments relating to the proposed Purchaser Agreement. The Agency's response to any comments received will be available for public inspection at the U.S. Environmental Protection Agency, Region III, 1650 Arch Street, Philadelphia, PA 19103.

DATES: Comments must be submitted on or before March 16, 2000.

Availability

The proposed Purchaser Agreement and additional background information relating to the proposed Purchaser Agreement are available for public inspection at the U.S. Environmental Protection Agency, Region III, 1650 Arch Street, Philadelphia, PA 19103. A copy of the proposed Purchaser Agreement may be obtained from Suzanne Canning, U.S. Environmental Protection Agency, Regional Docket Clerk (3RC00), 1650 Arch Street Philadelphia, PA 19103. Comments should reference the “Metro Container Corporation Site Prospective Purchaser Agreement” and “EPA Docket No. CERC-PPA-99-06,” and should be forwarded to Suzanne Canning at the above address or through electronic mail at “canning.suzanne@epa.gov.”

FOR FURTHER INFORMATION CONTACT: Andrew S. Goldman (3RC41), Sr. Assistant Regional Counsel, U.S. Environmental Protection Agency, 1650 Arch Street, Philadelphia, PA 19103, Phone: (215) 814-2487.

Dated: February 1, 2000.
Bradley M. Campbell,
Regional Administrator, Region III.

[FR Doc. 00-3486 Filed 2-14-00; 8:45 am]

BILLING CODE 6560-50-P